ENVIRONMENTAL PROTECTION AGENCY

40 CFR Part 52

[EPA-R01-OAR-2011-0879; A-1-FRL-9505-9]

Approval and Promulgation of Air Quality Implementation Plans; Massachusetts and New Hampshire; Determination of Attainment of the One-Hour Ozone Standard

Correction

In proposed rule document 2011-32059 beginning on page 77739 the issue of Wednesday, December 14, 2011 make the following correction:

On page 77741, Table 1 should read as follows:

Table 1—Average Expected Exceedance Rate for the One-Hour Ozone Standard in the Boston-Lawrence-Worcester, MA-NH Area for 2005-2007
EPA AQS ID | Site | Year | Exceedances (days over 0.124 ppm): Actual | Exceedances (days over 0.124 ppm): Adjusted for missing data | Exceedances (days over 0.124 ppm): 3-Year average expected exceedance rate
Massachusetts:
250250041 | Boston-Long Island | 2005 2006 2007 | 0 0 0 | 0.0 0.0 0.0 | 0.0
250250042 | Boston-Roxbury | 2005 2006 2007 | 0 0 0 | 0.0 0.0 0.0 | 0.0
250170009 | Chelmsford | 2005 2006 2007 | 0 0 0 | 0.0 0.0 0.0 | 0.0
250051002 | Fairhaven | 2005 2006 2007 | 0 2 0 | 0.0 2.0 0.0 | 0.7
250095005 | Haverhill | 2005 2006 2007 | 0 0 0 | 0.0 0.0 0.0 | 0.0
250092006 | Lynn | 2005 2006 2007 | 0 0 0 | 0.0 0.0 0.0 | 0.0
250213003 | Milton | 2005 2006 2007 | 1 0 0 | 1.0 0.0 0.0 | 0.3
250094004 | Newbury | 2005 2006 2007 | 0 0 0 | 0.0 0.0 0.0 | 0.0
250070001 | Oak Bluffs | 2005 2006 2007 | 0 2 0 | 0.0 2.1 0.0 | 0.7
250171102 | Stow | 2005 2006 2007 | 0 0 0 | 0.0 0.0 0.0 | 0.0
250010002 | Truro | 2005 2006 2007 | 0 0 0 | 0.0 0.0 0.0 | 0.0
250270015 | Worcester | 2005 2006 2007 | 0 0 0 | 0.0 0.0 0.0 | 0.0
New Hampshire
330111011 | Nashua | 2005 2006 2007 | 0 0 0 | 0.0 0.0 0.0 | 0.0

[FR Doc. C1-2011-32059 Filed 1-17-12; 8:45 am]

BILLING CODE 1505-01-D